DEPARTMENT OF TRANSPORTATION

Federal Aviation Administration

14 CFR Part 71

[Docket No. FAA-2013-0175; Airspace Docket No. 13-AGL-12]

Proposed Amendment of Class D and Class E Airspace; Traverse City, MI

AGENCY: Federal Aviation Administration (FAA), DOT.

ACTION: Notice of proposed rulemaking (NPRM).

SUMMARY: This action proposes to amend Class D and Class E airspace at Traverse City, MI. Additional controlled airspace is necessary to accommodate new Standard Instrument Approach Procedures (SIAP) at Cherry Capital Airport. Geographic coordinates of the airport also would be adjusted. The FAA is taking this action to enhance the safety and management of Instrument Flight Rules (IFR) operations for SIAPs at the airport.

DATES: Comments must be received on or before February 24, 2014.

ADDRESSES: Send comments on this proposal to the U.S. Department of Transportation, Docket Operations, 1200 New Jersey Avenue SE., West Building Ground Floor, Room W12-140, Washington, DC 20590-0001. You must identify the docket number FAA-2013-0175/Airspace Docket No. 13-AGL-12, at the beginning of your comments. You may also submit comments through the Internet at http://www.regulations.gov. You may review the public docket containing the proposal, any comments received, and any final disposition in person in the Dockets Office between 9 a.m. and 5 p.m., Monday through Friday, except Federal holidays. The Docket Office (telephone 1-800-647-5527), is on the ground floor of the building at the above address.

FOR FURTHER INFORMATION CONTACT: Scott Enander, Central Service Center, Operations Support Group, Federal Aviation Administration, Southwest Region, 2601 Meacham Blvd., Fort Worth, TX 76137; telephone: (817) 321-7716.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2013-0175/Airspace Docket No. 13-AGL-12.” The postcard will be date/time stamped and returned to the commenter.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received and any final disposition in person in the Dockets Office (see ADDRESSES section for address and phone number) between 9 a.m. and 5 p.m., Monday through Friday, except Federal holidays. An informal docket may also be examined during normal business hours at the office of the Central Service Center, 2601 Meacham Blvd., Fort Worth, TX 76137.

Persons interested in being placed on a mailing list for future NPRMs should contact the FAA's Office of Rulemaking (202) 267-9677, to request a copy of Advisory Circular No. 11-2A, Notice of Proposed Rulemaking Distribution System, which describes the application procedure.

The Proposal

This action proposes to amend Title 14, Code of Federal Regulations (14 CFR), part 71 by amending Class D airspace, Class E airspace designated as a surface area, and Class E airspace extending upward from 700 feet above the surface to accommodate new standard instrument approach procedures at Cherry Capital Airport, Traverse City, MI. Accordingly, an additional segment to the Class D airspace and Class E surface area would extend from the 4.4-mile radius of the airport to 5.3 miles south of the airport, and an additional segment to the Class E transition area would extend from the 7.7-mile radius of the airport to 10.3 miles south of the airport, to retain the safety and management of IFR aircraft in Class D and Class E airspace to/from the en route environment. Geographic coordinates would also be updated to coincide with the FAA's aeronautical database.

Class D and Class E airspace areas are published in Paragraphs 5000, 6002 and 6005, respectively, of FAA Order 7400.9X, dated August 7, 2013 and effective September 15, 2013, which is incorporated by reference in 14 CFR 71.1. The Class D and Class E airspace designations listed in this document will be published subsequently in the Order.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the U.S. Code. Subtitle 1, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend controlled airspace at Cherry Capital Airport, Traverse City, MI.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

The authority citation for part 71 continues to read as follows:

Authority: 49 U.S.C. 106(g); 40103, 40113, 40120; E.O. 10854, 24 FR 9565, 3 CFR, 1959-1963 Comp., p. 389.

§ 71.1 [Amended]

The incorporation by reference in 14 CFR 71.1 of FAA Order 7400.9X, Airspace Designations and Reporting Points, dated August 7, 2013, and effective September 15, 2013, is amended as follows:

Paragraph 5000 Class D Airspace.

* * * * *

AGL MI D Traverse City, MI [Amended]

Traverse City, Cherry Capital Airport, MI

(Lat. 44°44′30″ N., long. 85°34′57″ W.)

That airspace extending upward from the surface to and including 3,100 feet MSL within a 4.4-mile radius of Cherry Capital Airport, and within 1 mile each side of the 180° bearing from the airport extending from the 4.4-mile radius to 5.3 miles south of the airport. This Class D airspace area is effective during the specific dates and times established in advance by a Notice to Airmen. The effective date and time will thereafter be continuously published in the Airport/Facility Directory.

Paragraph 6002 Class E Airspace designated as a surface area.

* * * * *

AGL MI E2 Traverse City, MI [Amended]

Traverse City, Cherry Capital Airport, MI

(Lat. 44°44′30″ N., long. 85°34′57″ W.)

Within a 4.4-mile radius of Cherry Capital Airport, and within 1 mile each side of the 180° bearing from the airport extending from the 4.4-mile radius to 5.3 miles south of the airport. This Class E airspace area is effective during the specific dates and times established in advance by a Notice to Airmen. The effective date and time will thereafter be continuously published in the Airport/Facility Directory.

Paragraph 6005 Class E Airspace areas extending upward from 700 feet or more above the surface of the earth.

* * * * *

AGL MI E5 Traverse City, MI [Amended]

Traverse City, Cherry Capital Airport, MI

(Lat. 44°44′30″ N., long. 85°34′57″ W.)

Traverse City VORTAC

(Lat. 44°44′04″ N., long. 85°33′00″ W.)

Point in Space Coordinates

(Lat. 44°39′08″ N., long. 85°35′17″ W.)

That airspace extending upward from 700 feet the surface within a 7.7-mile radius of Cherry Capital Airport, and within 4 miles west and 8 miles east of the Traverse City VORTAC 158° radial extending from the 7.7-mile radius to 14.4 miles south of the airport, and within 3.2 miles west of the 169° bearing from the point in space extending from the 7.7-mile radius to 9 miles south of the airport, and within 2 miles each side of the 180° bearing from the airport extending from the 7.7-mile radius to 10.3 miles south of the airport.

Issued in Fort Worth, TX, on December 18, 2013.
David P. Medina,
Manager, Operations Support Group, ATO Central Service Center.

[FR Doc. 2014-00106 Filed 1-7-14; 8:45 am]

BILLING CODE 4910-13-P